DEPARTMENT OF AGRICULTURE

Farm Service Agency

7 CFR Part 723

Release of Burley Tobacco Farmer's Warehouse, Receiving Station and Dealer Designations to Warehouse Operators, Receiving Station Buying Companies and Dealers

AGENCY: Commodity Credit Corporation, USDA.

ACTION: Notice of Intent to Release Designation Records and Opportunity to Opt Out of the Release.

SUMMARY: This document announces the intention of the Secretary of Agriculture to release the burley tobacco farm designation information, which includes, but is not limited to, the farm serial number, operator's name and address and pounds designated to a specific market location; and provides notice of the method in which interested parties can opt out of that release. The release will be to the designated warehouse operator, receiving station buying company or dealer in order to facilitate an orderly marketing of the 2001 crop of burley tobacco.

DATES: Submit Request to Opt Out of Release October 30, 2001.

ADDRESSES: Notices should be mailed to Misty Jones, Farm Service Agency (FSA), Tobacco and Peanuts Division, STOP 0514, 1400 Independence Avenue, SW., Washington, DC 20250-0514.

FOR FURTHER INFORMATION CONTACT: Misty L. Jones, telephone number (202) 720-0200 or via e-mail at TOB_Comments@wdc.fsa.usda.gov.

SUPPLEMENTARY INFORMATION: The marketing quota program is provided for in Section 319 of the Agricultural Adjustment Act of 1938, as amended, and is a program in which Federal marketing quotas are established for burley tobacco. Tobacco farmers who filed market designation information were asked to provide the Farm Service Agency (FSA) the exact market location and the poundage of burley tobacco that would be offered for sale at each respective location.

In order to facilitate an orderly marketing of such commodity FSA collected information to be used in scheduling Federal graders at auction warehouses and to provide like information to nonauction receiving stations and dealers and auction warehouse operators for marketing scheduling purposes. So that affected parties may efficiently and expeditiously make arrangements for the 2001 burley tobacco marketing season FSA will release information collected after October 30, 2001. The release will be made to any person asking for the information. This will help warehouse operators schedule sales in a manner that will assist farmers, the warehouse operators and inspectors. This can also avoid difficulties for the farmer with regard to private contracts for sale. Because this information can provide much needed help to market locations, the Secretary intends to provide the information to the warehouse operators, receiving station buying companies, dealers and others as may request the information that is not confidential, except in the case of those parties who wish to opt out of the release. Those who wish to opt out of the release should send notice in writing of their election to Misty Jones, Farm Service Agency, Tobacco and Peanuts Division, STOP 0514, 1400 Independence Avenue, SW., Washington, DC 20250-0514. Such notice must be received by October 30, 2001.

The Agency does not expect many exemption requests.

Signed at Washington, DC on October 16, 2001.
James R. Little,
Administrator, Farm Service Agency, and Executive Vice President, Commodity Credit Corporation.

[FR Doc. 01-26947 Filed 10-22-01; 4:41 pm]

BILLING CODE 3410-05-P